DEPARTMENT OF COMMERCE

International Trade Administration

[A-570-806]

Silicon Metal From the People's Republic of China: Continuation of Antidumping Duty Order

AGENCY: Import Administration, International Trade Administration, Department of Commerce.

SUMMARY: As a result of determinations by the Department of Commerce (“the Department”) and the International Trade Commission (“ITC”) that revocation of the antidumping duty order on silicon metal from the People's Republic of China (“PRC”) would be likely to lead to continuation or recurrence of dumping and of material injury to an industry in the United States, respectively, the Department is publishing notice of the continuation of the antidumping duty order.

DATES: Effective Date: April 20, 2012.

FOR FURTHER INFORMATION CONTACT: Rebecca Pandolph or Howard Smith, AD/CVD Operations, Office 4, Import Administration, International Trade Administration, U.S. Department of Commerce, 14th Street and Constitution Avenue NW., Washington, DC 20230; telephone: (202) 482-3627 or (202) 482-5193, respectively.

SUPPLEMENTARY INFORMATION: On November 1, 2011, the Department published the notice of initiation of the third sunset review of the antidumping duty order on silicon metal from the PRC, pursuant to section 751(c) of the Tariff Act of 1930, as amended (“the Act”).¹ The Department conducted an expedited sunset review of the order.² As a result of its review, the Department found that revocation of the antidumping duty order would likely lead to continuation or recurrence of dumping and, thus, notified the ITC of the magnitude of the margins likely to prevail if the order were revoked.³

¹ See Initiation of Five-Year (“Sunset”) Review, 76 FR 67412 (November 1, 2011) (“Sunset Initiation”); see also Antidumping Duty Order: Silicon Metal From the People's Republic of China, 56 FR 26649 (June 10, 1991).

² See Silicon Metal From the People's Republic of China: Final Results of the Expedited Sunset Review of the Antidumping Duty Order, 77 FR 10477 (February 22, 2012).

³ See id.

On April 5, 2012, the ITC published its determination, pursuant to section 751(c) of the Act, which stated that revocation of the antidumping duty order on silicon metal from the PRC would be likely to lead to continuation or recurrence of material injury to an industry in the United States within a reasonably foreseeable time.⁴

⁴ See Silicon Metal From China, 77 FR 20649 (April 5, 2012).

Scope of the Order

Imports covered by this order are shipments of silicon metal containing at least 96.00 but less than 99.99 percent of silicon by weight. Also covered by this order is silicon metal from the PRC containing between 89.00 and 96.00 percent silicon by weight but which contains a higher aluminum content than the silicon metal containing at least 96.00 percent but less than 99.99 percent silicon by weight. Silicon metal is currently provided for under subheadings 2804.69.10 and 2804.69.50 of the Harmonized Tariff Schedule (HTS) as a chemical product, but is commonly referred to as a metal. Semiconductor-grade silicon (silicon metal containing by weight not less than 99.99 percent of silicon and provided for in subheading 2804.61.00 of the HTS) is not subject to this order. Although the HTS subheadings are provided for convenience and customs purposes, the written description of the merchandise is dispositive.

Continuation of the Order

As a result of determinations by the Department and the ITC that revocation of the antidumping duty order would be likely to lead to continuation or recurrence of dumping and material injury to an industry in the United States, pursuant to section 751(d)(2) of the Act, the Department hereby orders the continuation of the antidumping duty order on silicon metal from the PRC. U.S. Customs and Border Protection will continue to collect antidumping duty cash deposits at the rates in effect at the time of entry for all imports of subject merchandise.

The effective date of continuation of the order will be the date of publication in the Federal Register of this notice of continuation. Pursuant to section 751(c)(2) of the Act, the Department intends to initiate the next five-year review of the order not later than 30 days prior to the fifth anniversary of the effective date of continuation. The five-year (sunset) review and this notice are issued and published in accordance with sections 751(c) and 777(i)(1) of the Act and 19 CFR 351.218(f)(4).

Dated: April 11, 2012.
Paul Piquado,
Assistant Secretary for Import Administration.

[FR Doc. 2012-9347 Filed 4-19-12; 8:45 am]

BILLING CODE 3510-DS-P